Proclamation 9379 of December 4, 2015

National Pearl Harbor Remembrance Day, 2015

By the President of the United States of America

A Proclamation

Nearly seven and a half decades ago, as dawn broke over the island of Oahu, bombs broke through the sky as Japanese forces launched an unprovoked attack on our Nation—absorbing America into a conflict that would change the course of human dignity and freedom. More than 2,400 precious lives and much of our Pacific Fleet were lost, yet the ensuing unification of our people proved mightier than the attack that aimed to weaken us. On National Pearl Harbor Remembrance Day, we pay tribute to the men, women, and children—military and civilian—who lost their lives on December 7, 1941, honor all who served in the wake of that infamous day, and recognize the sacrifices today's service members make to carry forward the inextinguishable torch of liberty for generations to come.

Reacting to the surprise attack, patriots from every corner of our country answered the call to serve and banded together in common cause. Sixteen million Americans left behind everything they knew and everyone they loved to fight for freedom far from home and liberate a continent from the grip of tyranny. Courageous individuals from all walks of life crossed oceans and stormed beaches, uplifting a generation and paving the way for our fiercest adversaries to become some of our closest allies. In the example of those who came forth in the months and years following the attack on Pearl Harbor, we see an enduring truth: that no challenge is too great when we stand as one people committed to the ideals which the stars and stripes symbolize.

Seventy-four years after the attack on Pearl Harbor, we endure as a Nation dedicated to affirming the inherent dignity of every person—even in the face of unspeakable violence. As President Franklin D. Roosevelt said the day after the attack, “the American people in their righteous might will win through to absolute victory.” On this day, let us honor the memory of all who gave their lives so that President Roosevelt's words could be realized, and let us resolve to uphold the legacy of our country, for which generations of brave men and women have fought and sacrificed.

The Congress, by Public Law 103-308, as amended, has designated December 7 of each year as “National Pearl Harbor Remembrance Day.”

NOW, THEREFORE, I, BARACK OBAMA, President of the United States of America, do hereby proclaim December 7, 2015, as National Pearl Harbor Remembrance Day. I encourage all Americans to observe this solemn day of remembrance and to honor our military, past and present, with appropriate ceremonies and activities. I urge all Federal agencies and interested organizations, groups, and individuals to fly the flag of the United States at half-staff this December 7 in honor of those American patriots who died as a result of their service at Pearl Harbor.

IN WITNESS WHEREOF, I have hereunto set my hand this fourth day of December, in the year of our Lord two thousand fifteen, and of the Independence of the United States of America the two hundred and fortieth.

[FR Doc. 2015-31222

Filed 12-8-15; 11:15 am]

Billing code 3295-F6-P